DEPARTMENT OF AGRICULTURE

Forest Service

GMUG Resource Advisory Committee

AGENCY: Forest Service, USDA.

ACTION: Notice of meeting.

SUMMARY: The GMUG Resource Advisory Committee (RAC) will meet in Delta, Colorado. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review past and current project proposals to recommend for funding and implementation under the Secure Rural Schools, Title II disbursements.

DATES: The meeting will be held April 8, 2014 at 1:00 to 4:00 p.m.

All RAC meetings are subject to cancellation. For status of meeting prior to attendance, please contact the person listed under FOR FURTHER INFORMATION CONTACT.

ADDRESSES: The meeting will be held at 2250 Highway 50, Delta, Colorado at the Grand Mesa, Uncompahgre & Gunnison National Forests Forest Headquarters in the North Spruce conference room.

Written comments may be submitted as described under SUPPLEMENTARY INFORMATION. All comments, including names and addresses when provided, are placed in the record and are available for public inspection and copying. The public may inspect comments received at the Forest Headquarters Office at 2250 Highway 50, Delta, Colorado. Please call ahead to facilitate entry into the building.

FOR FURTHER INFORMATION CONTACT: Lee Ann Loupe, RAC Coordinator by phone at 970.874.6717 or via email at lloupe@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or procedings by contacting the person listed FOR FURTHER INFORMATION.

SUPPLEMENTARY INFORMATION: Additional RAC information, including the meeting agenda and the meeting summary/minutes can be found at the following Web site: www.facadatabase.gov. The agenda will include time for people to make oral statements of three minutes or less. Individuals wishing to make an oral statement should request in writing by March 25 to be scheduled on the agenda.

Anyone who would like to bring related matters to the attention of the committee may file written statements with the committee staff before or after the meeting. Written comments and requests for time for oral comments must be sent to Lee Ann Loupe, GMUG RAC Coordinator, 2250 Highway 50 Delta, CO 81416; or by email to lloupe@fs.fed.us, or via facsimile to C/O Lee Ann Loupe 970-874-6686.

Dated: February 24, 2014.
Scott G. Armentrout,
Forest Supervisor.

[FR Doc. 2014-04398 Filed 2-27-14; 8:45 am]

BILLING CODE 3410-11-P